DEPARTMENT OF STATE

[Public Notice 7397]

Advisory Committee on the Secretary of State's Strategic Dialogue With Civil Society; Notice of the Establishment of an Advisory Committee

This is notice of the establishment of the Advisory Committee on the Secretary of State's Strategic Dialogue with Civil Society (hereinafter “the Committee”). The Committee will provide advice and assistance in the formulation of U.S. policies, proposals, and strategies for engagement with, and protection of, civil society worldwide. Functions of the Committee include, but are not limited to: (a) Providing information and advice on the effective integration of civil society into overall foreign policy; and (b) providing information and advice on the Department of State's role in advancing, promoting, and protecting freedom of association and expression. The objective of the Committee is to bring to the United States government a source of expertise, knowledge, and insight not available within the Department or elsewhere in the government on these issues. The Committee serves in a solely advisory capacity.

The membership of the Committee will consist of representatives who are leaders of U.S. and foreign civil society and U.S. and foreign businesses engaged with civil society. They may include: Leaders of independent public policy advocacy organizations, non-profit organizations that defend human rights and promote democracy, humanitarian organizations, private foundations and funds, charitable trusts, societies, associations and non-profit corporations. It is anticipated that the Committee will meet at least annually. The Department affirms that this advisory committee is necessary and in the public interest.

For further information, please call Tomicah S. Tillemann, Senior Adviser for Civil Society and Emerging Democracies, U.S. Department of State, at civilsociety@state.gov.

Dated: April 13, 2011.
Tomicah S. Tillemann
Senior Adviser for Civil Society and Emerging Democracies, U.S. Department of State.

[FR Doc. 2011-9575 Filed 4-19-11; 8:45 am]

BILLING CODE 4710-10-P